DEPARTMENT OF HOUSING AND URBAN DEVELOPMENT

[Docket No. FR-5843-N-02]

Computer Matching and Privacy Protection Act of 1988—Computer Matching Program Between the U.S. Department of Housing and Urban Development (HUD), Office of Inspector General (OIG) and the Office of Personnel Management (OPM)

AGENCY: Office of the Chief Information Officer, HUD.

ACTION: Notice of a new computer matching program between HUD OIG and OPM.

SUMMARY: Pursuant to the Computer Matching and Privacy Protection Act (CMPPA) of 1988, as amended, and in accordance with the requirements of the Privacy Act of 1974 (5 U.S.C. 552a), as amended, HUD OIG is providing notice of its intent to execute a new computer matching agreement with OPM for a matching program initiated by HUD's OIG involving comparisons of income data provided by participants in HUD's various rental housing assistance programs with independent income sources available in OPM systems of records. This computer match is similar to matches that were previously published in the Federal Register on March 9, 2004 (69 FR 11033) and January 27, 2005 (70 FR 3939).

DATES: Effective Date: HUD OIG will file a report of the subject matching program with the Committee on Oversight and Government Reform of the Housing of Representatives, the Committee on Homeland Security and Governmental Affairs of the Senate, and the Office of Management and Budget's (OMB) Office of Information and Regulatory Affairs. The matching program will become effective as cited in Section V of this notice.

Comments Due Date: March 9, 2015.

ADDRESSES: Interested persons are invited to submit comments regarding this notice to the Rules Docket Clerk, Office of General Counsel, Department of Housing and Urban Development, 451 Seventh Street SW., Room 10276, Washington, DC 20410-3000. Communications should refer to the above docket number and title. Comments sent by fax are not acceptable. A copy of each communication submitted will be available for public inspection and copying between 8:00 a.m. and 5:00 p.m., weekdays at the above address.

FOR FURTHER INFORMATION CONTACT: For Privacy Act inquiries, contact: Donna Robinson-Staton, Chief Privacy Officer, Department of Housing and Urban Development, 451 Seventh Street SW., Capital View Building, 4th Floor, Washington, DC 20410, telephone number (202) 402-8073. For legal inquiries, contact: Jeremy Kirkland, Counsel to the Inspector General, Department of Housing and Urban Development, Office of Inspector General, 451 Seventh Street SW., Room 8260, Washington, DC 20410, (202) 708-1613. For computer matching program inquiries, contact Nicole Faison, Deputy Director for the Data and Predictive Analytics Division, Department of Housing and Urban Development, Office of Inspector General, 451 Seventh Street SW., Room 8254, Washington, DC 20410, (202) 402-2445. A telecommunications device for hearing- and speech-impaired individuals (TTY) is available at (800) 877-8339 (Federal Information Relay Service).

SUPPLEMENTARY INFORMATION: The Computer Matching and Privacy Protection Act (CMPPA) of 1988, an amendment to the Privacy Act of 1974 (5 U.S.C. 552a), OMB's guidance on this statute entitled “Final Guidance Interpreting the Provisions of Public Law 100-503, and OMB Circular No. A-130 requires publication of notices of computer matching programs. Appendix I to OMB's Revision of Circular No. A-130, “Transmittal Memorandum No. 4, Management of Federal Information Resources,” prescribes Federal agency responsibilities for maintaining records about individuals. In compliance with the CMPPA and Appendix I to OMB Circular No. A-130, copies of this notice are being provided to the Committee on Government Reform and Oversight of the House of Representatives, the Committee of Homeland Security and Governmental Affairs of the Senate, and OMB's Office of Information and Regulatory Affairs.

I. Authority

This matching program is being conducted pursuant to the Improper Payments Elimination and Recovery Improvement Act of 2012 (Pub. L. 112-248); section 542(b) of the 1998 Appropriations Act (Pub. L. 105-65); section 904 of the Stewart B. McKinney Homeless Assistance Amendments Act of 1988 (42 U.S.C. 3544); section 165 of the Housing and Community Development Act of 1987 (42 U.S.C. 3543); the National Housing Act (12 U.S.C. 1701-1750g); the United States Housing Act of 1937 (42 U.S.C. 1437-1437z); section 101 of the Housing and Community Development Act of 1965 (12 U.S.C. 1701s); the Native American Housing Assistance and Self-Determination Act of 1996 (25 U.S.C. 4101 et seq.); and the QHWRA Act of 1998 (42 U.S.C. 1437a(f)).

HUD OIG will obtain from OPM income information of persons (tenants) participating in any HUD rental housing assistance program authorized by:

i. The United States Housing Act of 1937 (42 U.S.C. 1437 et seq);

ii. Section 202 of the Housing Act of 1959 (12 U.S.C. 1701q);

iii. Section 221(d)(3), 221(d)(5) or 236 of the National Housing Act (12 U.S.C. 1751(d) and 1715z-1);

iv. Section 811 of the Cranston-Gonzalez National Affordable Housing Act (42 U.S.C. 80130); or

v. Section 101 of the Housing and Urban Development Act of 1965.

This matching program also assists HUD in complying with the following federal laws, requirements, and guidance related to identifying and reducing improper payments: Improper Payments Elimination and Recovery Act of 2010 (IPERA) (Pub. L. 111-204); Presidential Memorandum on Enhancing Payment Accuracy Through a “Do Not Pay List” (June 18, 2010). Office of Management and Budget M-10-13, Issuance of Part III to OMB Circular A-123, Appendix C; Presidential Memorandum on Finding and Recapturing Improper Payments (March 10, 2010); Reducing Improper Payments and Eliminating Waste in Federal Programs (Executive Order 13520, November 2009); Improper Payments Information Act of 2002 (Pub. L. 107-300); and Office of Management and Budget M-03-13, Improper Payments Information Act of 2002 Implementation Guide.

II. Objectives To Be Met by the Matching Program

The primary objective of the matching program is to (1) verify income of individuals participating in the housing programs identified in Section I of this notice; (2) increase the availability of rental assistance to qualified individuals; (3) identify tenants receiving excess housing assistance resulting from unreported or underreported tenant income; (4) collect excess assistance from tenants; and (5) detect, deter, and correct fraud, waste, and abuse in rental housing assistance programs. Appropriate administrative or legal action against tenants who inaccurately report their income may be taken by HUD OIG, HUD program office staff, federal agencies, and administrators of HUD rental housing assistance programs: Public Housing Agencies/Authorities (PHAs), owners (Os), and agents (As), collectively referred to as POAs.

III. Program Description

In this matching program, HUD OIG will compare tenant income included in HUD's automated systems of records identified as: Tenant Housing Assistance and Contract Verification Data (THACVD), HUD-H-11; and Inventory Management System (IMS) formerly and also known as the Public and Indian Housing Information Center (PIC) (IMS/PIC), HUD/PIH.01, with income data maintained in the following OPM systems of records: OPM/GOVT-1, General Personnel Records System; and OPM/Central-1, Civil Service Retirement and Insurance Records. The notices for the aforementioned systems were published as follows:

1. THACVD, HUD/H-11, originally published in the Federal Register Privacy Act Issuances, 1995 Compilation, and subsequently amended and last published at 62 FR 11909-11910 on March 13, 1997;

2. IMS/PIC, HUD/PIH.01, last published at 77 FR 22337-22340 on April 13, 2012;

3. OPM/GOVT-1, General Personnel Records System, published at 76 FR 32997 on June 7, 2011, and amended and republished at 77 FR 73694 on December 11, 2012. The disclosure of information contained in this system of records is permissible pursuant to routine use “hh” described in the published system of records notice (SORN); and

4. OPM/Central-1, Civil Service Retirement and Insurance Records, published at 64 FR 54930 on October 8, 1999, as amended at 65 FR 2772 on May 3, 2000, and amended and republished at 73 FR 15013 on March 20, 2008. The disclosure of information contained in this system of records is permissible pursuant to routine use “cc” described in the published SORN.

HUD OIG will match the tenant name (first and last name), social security number, date of birth, sex, income, and/or address included in HUD's systems of records to the same or similar data extracted from the following OPM Information Technology (IT) systems to identify tenant income disparities which require further verification to determine if the tenants received appropriate levels of rental assistance:

1. Enterprise Human Resource Integration (EHRI) which contains records that are covered by OPM/GOVT-1 General Personnel Records; and

2. Retirement Annuity Master File (RAMF) which contains records that are covered by OPM/Central-1 Civil Service Retirement Records.

A. Income Verification

Any disparity between tenant-reported income and/or income sources and the income and sources derived from the match (i.e. a “hit”) will be further reviewed and independently verified by HUD OIG, HUD program office staff, and/or POAs to determine whether income reported by tenants is correct and complies with HUD and program administrator requirements.

B. Administrative or Legal Actions

Regarding all the matching described in this notice, HUD requires that POAs or HUD staff take the following appropriate actions in consultation with tenants to: (1) Resolve income disparities between tenant-reported and independent income source data; and (2) Use correct income amounts in determining housing rental assistance. POAs must compute the rent in full compliance with all applicable occupancy regulations. POAs must ensure that they use the correct income and correctly compute the rent. POAs may not suspend, terminate, reduce, or make a final denial of any rental housing assistance to any tenant as the result of information produced by this matching program until: (a) The POA or HUD has independently verified the disparate income and confirmed the amount of the income involved, whether the individual actually has or had access to the income for the individual's own use, and the period or periods when the individual actually had the income; (b) The tenant has received notice from the POA of its findings and has been informed of the opportunity to contest such findings; and (c) either the notice period provided in applicable regulations of the program, or 30 days, whichever is later, has expired. In most cases, POAs will resolve income discrepancies in consultation with tenants. (3) Additionally, serious or egregious violations, which POAs, HUD program office staff, or the HUD OIG verify, may be referred for full investigation and initiation of appropriate civil and/or criminal proceedings.

IV. Records To Be Matched

A description of tenant records (one record for each family member) in THACVD and IMS/PIC include the following data elements for each family member: (1) SSN; (2) Last Name, First Name, and Middle Initial; (3) Date of Birth; and (4) the Address of the assisted family.

For matched tenants' SSNs (i.e., “hits”), HUD OIG will extract the following information from EHRI: SSN, Date of Birth, Name, Sex, Work Schedule, Annual Salary, Location Code, Standard Metropolitan Statistical Area, Submitting Office Number (SON), Agency Code, and File Date. HUD OIG will extract the following information from RAMF: File ID, SSN, Date of Birth, Sex, Last name, Annualized Salary, Annuity Commence Date, Pay Status, OPM Claim Number, Health Benefit Enrollment Code, Date of Death, Zip Code, Contact Address, and “As of” Date of File. In addition, HUD OIG will use the SON Master File to obtain the address of the agencies so that employer verification letters can be sent to such agencies. This information includes: SON, Agency Code and sub-element, SON name and address, zip code, and File Date.

V. Period of the Match

The matching program will become effective and the matching may commence after the respective Data Integrity Boards (DIBs) of both agencies approve and sign the computer matching agreement, and after, the later of the following: (1) 40 days after report of the matching program is sent to Congress and OMB; (2) at least 30 days after publication of this notice in the Federal Register, unless comments are received, which would result in a contrary determination. The matching program will be conducted according to the computer matching agreement between HUD OIG and OPM.

The Improper Payments Elimination and Recovery Improvement Act of 2012 (IPERIA) authorizes each Inspector General and the head of each agency to enter into computer matching agreements with other inspector general and agency heads that allow ongoing data matching (which includes automated data matching) in order to assist in the detection and prevention of improper payments. IPERIA further authorizes such matching agreements to have a termination date of less than 3 years (Pub. L. 112-248, Section 5(e)(2)(C)(i)). The computer matching agreement for the planned match will terminate either when the purpose of the matching program is accomplished, or less than 36 months from the effective date of the computer matching agreement, whichever occurs first.

IPERIA provides that within three months prior to the expiration of a matching agreement, the Data Integrity Boards (DIBs) may renew the matching agreement for a current, ongoing matching program for not more than 3 years. (Pub. L. 112-248, Section 5(e)(2)(C)(ii)). The agreement may be renewed for a period not to exceed 3 years, with the mutual agreement of all involved parties, if the following conditions are met: (1) Within three months of the expiration date, all DIBs review the agreement, find that the program will be conducted without change, and find a continued favorable examination of benefit/cost results; and (2) All parties certify that the program has been conducted in compliance with the computer matching agreement.

The agreement may be terminated, prior to accomplishment of the computer matching purpose or less than 36 months from the effective date of the computer matching agreement, (whichever occurs first), by the mutual agreement of all involved parties within 30 days of written notice.

Dated: January 22, 2015.
Rafael C. Diaz,
Chief Information Officer.

[FR Doc. 2015-02469 Filed 2-5-15; 8:45 am]

BILLING CODE 4210-67-P